POSTAL REGULATORY COMMISSION

[Docket No. C2025-7; Order No. 8827]

Complaint

AGENCY: Postal Regulatory Commission.

ACTION: Notice.

SUMMARY: The Commission is appointing a presiding officer to set a procedural schedule and conduct limited discovery for the purpose of determining disputed issues of fact related to the classification of the Copper Beech apartment complex as a dormitory. This document takes certain administrative steps.

ADDRESSES: Documents can be accessed electronically through the Commission's website at https://www.prc.gov.

FOR FURTHER INFORMATION CONTACT: David A. Trissell, General Counsel, at 202-789-6820.

SUPPLEMENTARY INFORMATION:

Table of Contents

I. Background

II. Ordering Paragraphs

I. Background

This complaint stems from a dispute between the Postal Service and Complainants regarding mail delivery at the Copper Beech apartment complex, which Complainants own. Complainants assert five causes of action in their Second Amended Complaint. Specifically, Count I alleges that the Postal Service unduly discriminated against them by treating Copper Beech differently, for mail delivery purposes, than other similarly situated buildings. Counts II and IV allege that the Postal Service violated its own regulations. Count III asserts that the Postal Service violated 39 U.S.C. 401(2) by establishing regulations that conflict with their duties under title 39. Count V alleges that the Postal Service violated 39 U.S.C. 3661(b) by making a nationwide change in the nature of postal services without first receiving an advisory opinion from the Commission.

Pursuant to 39 U.S.C. 3662(b), the Commission concludes that Complainants have raised sufficient issues of material law and fact as to Count I, portions of Count III, and Count V. The Commission shall hold Counts II and IV in abeyance pending a decision by the D.C. Circuit regarding Commission jurisdiction over 39 U.S.C. 401(2) claims. The Commission shall dismiss the portions of Count III that allege violations of 39 U.S.C. 403(a) and (b).

The Commission appoints a presiding officer to preside over the conduct of the proceedings, including but not limited to scheduling, discovery, potential hearings, and briefing in this matter. The Commission finds good cause to waive the appointment of an officer of the Commission designated to represent the interests of the general public in this proceeding as required by 39 CFR 3022.30(c) because the violations alleged in the Complaint pertain to a specific subset of the general public, or otherwise solely to Complainants, who are represented by counsel.

II. Ordering Paragraphs

It is ordered:

1. The Commission finds that the Amended Complaint of Copper Beech Townhome Communities Twenty One, LLC and Copper Beech Townhome Communities Thirty Six, LLC, filed February 5, 2025, raises material issues of law and fact.

2. The United States Postal Service Motion to Dismiss the February 5, 2025, Amended Complaint, filed February 25, 2025, is denied except for the portions of the Third Cause of Action that allege violations of 39 U.S.C. 403(a) and (b), which shall be dismissed.

3. Pursuant to 39 CFR 3010.106, the Commission appoints Joseph K. Press as presiding officer in this proceeding.

4. Counts II and IV—pertaining to whether the Postal Service has violated its own regulations—shall be held in abeyance pending a decision by the D.C. Circuit regarding Commission jurisdiction over 39 U.S.C. 401(2) claims.

5. The Secretary shall arrange for publication of this Order, or abstract thereof, in the Federal Register.

By the Commission.
Jennie L. Jbara,
Primary Certifying Official.

[FR Doc. 2025-07922 Filed 5-6-25; 8:45 am]

BILLING CODE 7710-FW-P